DEPARTMENT OF THE INTERIOR

Bureau of Land Management

[LLWY-957400-13-L16100000-BJ0000]

Filing of Plat of Survey, Wyoming

AGENCY: Bureau of Land Management, Interior.

ACTION: Notice.

SUMMARY: The Bureau of Land Management (BLM) is scheduled to file the plat of survey of the land described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: This survey was executed at the request of the Bureau of Land Management and is necessary for the management of this land. The land surveyed is:

The plat and field notes representing the dependent resurvey of a portion of the Thirteenth Standard Parallel North, through Range 91 West, and a portion of the subdivisional lines, Township 52 North, Range 91 West, Sixth Principal Meridian, Wyoming, Group No. 877, was accepted June 21, 2013.

Copies of the preceding described plat and field notes are available to the public at a cost of $1.10 per page.

Dated: June 21, 2013.
Sonja S. Sparks,
Acting Chief Cadastral Surveyor, Division of Support Services.

[FR Doc. 2013-15398 Filed 6-26-13; 8:45 am]

BILLING CODE 4310-22-P